DEPARTMENT OF JUSTICE

Notice of Lodging of Two Proposed Consent Decrees Under the Toxic Substances Control Act

On February 28, 2023, the Department of Justice lodged two proposed Consent Decrees (the “Consent Decrees”) with the District Court of the Southern District of New York in a lawsuit entitled United States of America v. CISNE NY Construction, Inc., et al., Civil Action No. 22-338.

In this action, the United States seeks, as provided under Toxic Substances Control Act (“TSCA”), injunctive relief from Edison Ruilova and Jose Paccha, among others, in connection with the defendants' unlawful work practices during renovations governed by an implementing regulation of the TSCA—the Renovation, Repair, and Painting Rule, 40 CFR part 745. The proposed settlements resolve the United States' claims, require Edison Ruilova and Jose Paccha to pay $25,000 each, and impose injunctive relief.

The publication of this notice opens the public comment on the proposed settlements. Comments should be addressed to the Assistant Attorney General, Environment and Natural Resources Division, and should refer to United States of America v. CISNE NY Construction, Inc., DJ # 90-5-2-1-12386. All comments must be submitted no later than 30 days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the settlements may be examined and downloaded at this Justice Department website: http://www.usdoj.gov/enrd/Consent_Decrees.html. We will provide a paper copy of the settlements upon written request and payment of reproduction costs. Please email your request and payment to: Consent Decree Library, U.S. DOJ-ENRD, P.O. Box 7611, Washington, DC 20044-7611.

Please enclose a check or money order for $24.00 (25 cents per page reproduction cost) payable to the United States Treasury.

Henry S. Friedman,
Assistant Section Chief, Environmental Enforcement Section, Environment and Natural Resources Division.

[FR Doc. 2023-04462 Filed 3-3-23; 8:45 am]

BILLING CODE 4410-15-P